DEPARTMENT OF LABOR

Employment and Training Administration

[TA-W-80,147]

Travelers Insurance, a Subsidiary of the Travelers Indemnity Company, Personal Insurance Division, Account Processing/Underwriting, Syracuse, NY; Notice of Negative Determination Regarding Application for Reconsideration

By application received July 18, 2011, a worker requested administrative reconsideration of the negative determination regarding workers' eligibility to apply for Trade Adjustment Assistance (TAA) applicable to workers and former workers of Travelers Insurance, a subsidiary of Travelers Insurance, a Subsidiary of The Travelers Indemnity Company, Personal Insurance Division, Account Processing/Underwriting, Syracuse, New York (subject firm).

The negative determination was issued on June 29, 2011. The Department's Notice of determination was published in the Federal Register on July 29, 2011 (76 FR 43351). Workers of the subject firm are engaged in activities related to the supply of account and underwriting processing services for Traveler's Insurance.

In the request for reconsideration, the worker asserts that “we were under the impression that our petition * * * could be merged or added as a supplemental to the Knoxville office petition (#75232).”

On August 31, 2011, the Department issued an amended certification applicable to workers and former workers of The Travelers Indemnity Company, a wholly-owned subsidiary of The Travelers Companies, Inc., Personal Insurance Division, Customer Sales and Service Business Unit, Account Processing/Underwriting Unit, including teleworkers located throughout the United States reporting to, Syracuse, New York (TA-W-75,232A). The Notice of amended certification was published in the Federal Register on September 14, 2011 (76 FR 56819).

The Department has reviewed the application for reconsideration, the afore-mentioned amended certification, and the record, and has determined that the petitioning worker group covered under TA-W-80,147 is eligible to apply for Trade Adjustment Assistance under TA-W-75,232A. As such, the Department determines that a reconsideration investigation would serve no purpose.

Conclusion

After review of the application and investigative findings, I conclude that there has been no error or misinterpretation of the law or of the facts which would justify reconsideration of the Department of Labor's prior decision. Accordingly, the application is denied.

Signed at Washington, DC this 15th day of September, 2011.
Del Min Amy Chen,
Certifying Officer, Office of Trade Adjustment Assistance.

[FR Doc. 2011-24480 Filed 9-22-11; 8:45 am]

BILLING CODE 4510-FN-P